DEPARTMENT OF HEALTH AND HUMAN SERVICES

Health Resources and Services Administration

Ryan White HIV/AIDS Program Part C Early Intervention Services

AGENCY: Health Resources and Services Administration (HRSA), Department of Health and Human Services.

ACTION: Notice of supplemental award.

SUMMARY: HRSA expects the availability of additional funds for the RWHAP Part C Early Intervention Services (EIS) Program due to relinquishments, reductions, closeouts, and unawarded fiscal year (FY) 2023 new service area competition funds in the estimated amount of $4.2 million and intends to distribute these supplemental funds across the current cohort of RWHAP Part C EIS recipients. The amount is subject to change depending on the availability of additional funds.

FOR FURTHER INFORMATION CONTACT: CAPT Mahyar Mofidi, Director, Division of Community HIV/AIDS Programs, HIV/AIDS Bureau, Health Resources and Services Administration, at mmofidi@hrsa.gov or 301-443-2075.

SUPPLEMENTARY INFORMATION: Intended Recipient(s) of the Award: 351 of the 357 recipients funded under the RWHAP Part C EIS Program for FY 2024, as listed in Table 1. HRSA used the established funding methodology for determining estimated award amounts, but excluded recipients that had (1) at least a 25 percent cumulative unobligated balances at the end of the FY 2018-2021 period of performance and (2) an annual unobligated balance greater than 25 percent for at least three of these four budget periods. These exclusions are intended to ensure that supplemental funding is put to use as expeditiously as possible in order to serve RWHAP clients.

Amount of Non-Competitive Award(s): Estimated from $0 to $19,995, according to Table 1.

Project Period: The current 3-year period of performance (FY 2022-2024) for the RWHAP Part C EIS Program is comprised of three cohorts: (1) January 1, 2022, to December 31, 2024; (2) April 1, 2022, to March 31, 2025; and (3) May 1, 2022, to April 30, 2025.

Assistance Listing (CFDA) Number: 93.918.

Award Instrument: Supplement.

Authority: 42 U.S.C. 300ff-51 to -67 and 300ff-121 (sections 2651-2667 and 2693 of the Public Health Service Act).

Table 1—Recipients and Estimated Award Amounts
Grant No. | Award recipient name | City, state | Estimated award amount
H76HA00723 | Alaska Native Tribal Health Consortium | Anchorage, AK | $10,385
H76HA00196 | Anchorage Neighborhood Health Center | Anchorage, AK | 8,581
H76HA00094 | Health Services Center, Inc | Anniston, AL | 14,195
H76HA25710 | University of Alabama at Birmingham | Birmingham, AL | 0
H76HA00624 | AIDS Action Coalition of Huntsville, Inc | Huntsville, AL | 18,741
H76HA00081 | Mobile County Health Department | Mobile, AL | 9,488
H76HA31532 | Mobile County Board of Health | Mobile, AL | 5,816
H76HA49279 | West Alabama AIDS Outreach, Inc | Tuscaloosa, AL | 5,000
H76HA00595 | Whatley Health Services, Inc | Tuscaloosa, AL | 12,586
H76HA00711 | ARcare | Augusta, AR | 10,597
H76HA31745 | ARcare | Augusta, AR | 9,398
H76HA00133 | Jefferson Comprehensive Care System | Pine Bluff, AR | 0
H76HA00753 | East Arkansas Family Health Center, Inc | West Memphis, AR | 9,569
H76HA00151 | Maricopa County Special Health Care District doing business as (dba) Valleywise Health | Phoenix, AZ | 19,995
H76HA00152 | El Rio Santa Cruz Neighborhood Health Center | Tucson, AZ | 18,053
H76HA02485 | Arizona Board of Regents, The University of Arizona | Tucson, AZ | 15,551
H76HA00797 | Open Door Community Health Centers | Arcata, CA | 9,381
H76HA00659 | El Proyecto Del Barrio | Arleta, CA | 7,747
H76HA00165 | Clinica Sierra Vista | Bakersfield, CA | 11,564
H76HA00169 | Alta Med Health Services Corporation | Commerce, CA | 16,864
H76HA00823 | Solano County Health & Social Services Department | Fairfield, CA | 9,690
H76HA00160 | Tri-City Health Center | Fremont, CA | 13,876
H76HA00765 | Fresno Community Hospital and Medical Center dba University Medical Center | Fresno, CA | 16,860
H76HA00149 | West County Health Centers, Inc | Guerneville, CA | 9,975
H76HA00190 | Regents of University of California | La Jolla, CA | 13,395
H76HA26212 | Bartz-Altadonna Community Health Center | Lancaster, CA | 5,940
H76HA00510 | Dignity Health Dba Saint Mary Medical Center | Long Beach, CA | 12,564
H76HA00734 | T.H.E. Clinic, Inc | Los Angeles, CA | 5,546
H76HA02163 | Charles R Drew University of Medicine and Science | Los Angeles, CA | 7,234
H76HA00158 | Los Angeles LGBT Center | Los Angeles, CA | 19,404
H76HA00832 | Watts Healthcare Corporation | Los Angeles, CA | 6,854
H76HA01700 | University of Southern California, School of Medicine | Los Angeles, CA | 11,795
H76HA24733 | JWCH Institute, Inc | Los Angeles, CA | 12,485
H76HA00618 | Contra Costa County Health Services Department | Martinez, CA | 10,276
H76HA25703 | County of Ventura | Oxnard, CA | 10,493
H76HA31746 | Desert AIDS Project | Palm Springs, CA | 10,518
H76HA01696 | Plumas County Public Health Agency | Quincy, CA | 7,360
H76HA00616 | Shasta Community Health Center | Redding, CA | 9,294
H76HA00703 | Cares Community Health | Sacramento, CA | 14,476
H76HA01716 | County of Monterey | Salinas, CA | 12,121
H76HA00154 | San Bernardino County Public Health Department | San Bernardino, CA | 5,611
H76HA00150 | Family Health Centers of San Diego, Inc | San Diego, CA | 15,321
H76HA24739 | City & County of San Francisco | San Francisco, CA | 5,000
H76HA00163 | San Francisco Community Clinic Consort | San Francisco, CA | 12,256
H76HA00157 | Santa Clara County Department of Public Health | San Jose, CA | 14,135
H76HA10747 | Centro De Salud De La Comunidad San Ysidro | San Ysidro, CA | 15,664
H76HA00146 | County of Orange | Santa Ana, CA | 16,435
H76HA00193 | Santa Barbara County Health Department | Santa Barbara, CA | 10,950
H76HA00153 | Santa Cruz County | Santa Cruz, CA | 9,921
H76HA19262 | Santa Rosa Community Health Centers | Santa Rosa, CA | 13,170
H76HA00191 | Community Medical Center | Stockton, CA | 11,000
H76HA00791 | Tarzana Treatment Centers, Inc | Tarzana, CA | 5,435
H76HA00170 | Mendocino Community Health Clinic, Inc | Ukiah, CA | 9,366
H76HA00159 | Northeast Valley Health Corporation | Van Nuys, CA | 11,971
H76HA00207 | Venice Family Clinic | Venice, CA | 7,502
H76HA00794 | Ampla Health | Yuba City, CA | 10,271
H76HA02486 | Boulder Community Hospital | Boulder, CO | 18,166
H76HA00143 | Denver Health and Hospital Authority | Denver, CO | 13,531
H76HA00593 | St. Mary's Hospital and Medical Center | Grand Junction, CO | 9,432
H76HA00815 | Pueblo Community Health Center, Inc | Pueblo, CO | 0
H76HA00021 | Optimus Health Care, Inc | Bridgeport, CT | 8,449
H76HA00007 | Southwest Community Health Center | Bridgeport, CT | 9,395
H76HA46009 | Apex Community Care, Inc | Danbury, CT | 5,000
H76HA45488 | Apex Community Care, Inc | Danbury, CT | 7,034
H76HA08064 | Community Health Services, Inc | Hartford, CT | 8,044
H76HA00717 | Community Health Center, Inc | Middletown, CT | 10,010
H76HA00014 | Cornell Scott-Hill Health Corporation | New Haven, CT | 7,874
H76HA00648 | Fair Haven Community Health Clinic, Inc | New Haven, CT | 6,777
H76HA30934 | Staywell Health Care, Inc | Waterbury, CT | 7,886
H76HA00787 | Generations Family Health Center, Inc | Willimantic, CT | 7,564
H76HA00074 | Whitman-Walker Clinic | Washington, DC | 8,560
H76HA00178 | Family and Medical Counseling Service | Washington, DC | 8,873
H76HA00071 | Unity Health Care, Inc | Washington, DC | 13,182
H76HA04384 | Howard University Hospital Comprehensive Clinic | Washington, DC | 8,392
H76HA00176 | Christiana Care Health Services, Inc | Wilmington, DE | 18,309
H76HA24730 | Charlotte and Desoto County Health Department | Arcadia, FL | 8,921
H76HA00596 | Florida Department of Health in Polk County | Bartow, FL | 19,995
H76HA46008 | AIDS Healthcare Foundation | Escambia, FL | 5,000
H76HA12909 | The McGregor Clinic, Inc | Fort Myers, FL | 17,573
H76HA00210 | North Broward Hospital District | Ft. Lauderdale, FL | 13,276
H76HA00590 | Okaloosa County Health Department | Ft. Walton Beach, FL | 10,786
H76HA01312 | University of Florida | Gainesville, FL | 9,361
H76HA00086 | Collier Health Services | Immokalee, FL | 0
H76HA01709 | Duval County Health Department | Jacksonville, FL | 17,706
H76HA00087 | Monroe County Health Department | Key West, FL | 9,620
H76HA00594 | Hendry County Health Department | Labelle, FL | 8,570
H76HA00615 | Unconditional Love, Inc | Melbourne, FL | 15,842
H76HA00103 | Miami Beach Community Health Center | Miami Beach, FL | 19,995
H76HA00095 | University of Miami | Miami, FL | 15,474
H76HA31744 | Empower U, Incorporated | Miami, FL | 10,994
H76HA00758 | Borinquen Health Care Center, Inc | Miami, FL | 16,487
H76HA24724 | AIDS Healthcare Foundation | Orlando, FL | 15,279
H76HA00603 | Orange County Health Department | Orlando, FL | 19,995
H76HA46006 | AIDS Healthcare Foundation | Palm Beach, FL | 5,000
H76HA00786 | MCR Health, Inc | Palmetto, FL | 13,501
H76HA31748 | PanCare of Florida, Inc | Panama City, FL | 8,542
H76HA46007 | AIDS Healthcare Foundation | Pinellas, FL | 5,000
H76HA46010 | Can Community Health, Inc | Sarasota, FL | 5,000
H76HA00622 | St. Johns County Health Department | St. Augustine, FL | 6,868
H76HA28472 | Neighborhood Medical Center, Inc | Tallahassee, FL | 8,922
H76HA00083 | Albany Area Primary Health Care, Inc | Albany, GA | 19,995
H76HA00720 | Clarke County Board of Health | Athens, GA | 14,702
H76HA00090 | St. Joseph's Mercy Care Services | Atlanta, GA | 11,154
H76HA07848 | Emory University | Atlanta, GA | 14,565
H76HA28471 | AID Atlanta, Inc | Atlanta, GA | 19,995
H76HA00101 | Augusta University | Augusta, GA | 19,995
H76HA00582 | Columbus Department of Public Health | Columbus, GA | 16,901
H76HA01708 | North Georgia Health District/Cherokee County Board of Health | Dalton, GA | 8,625
H76HA00760 | Dekalb County Board of Health | Decatur, GA | 11,093
H76HA24734 | Laurens County Board of Health | Dublin, GA | 11,361
H76HA00799 | Positive Impact Health Centers, Inc | Duluth, GA | 12,565
H76HA45490 | Positive Impact Health Centers, Inc | Duluth, GA | 7,430
H76HA24729 | Hall County Board of Health | Gainesville, GA | 10,254
H76HA24726 | Clayton County Board of Health | Jonesboro, GA | 9,647
H76HA26646 | County Houston | Macon, GA | 19,995
H76HA00806 | Floyd County Board of Health | Rome, GA | 9,958
H76HA00089 | Chatham County Board of Health | Savannah, GA | 19,995
H76HA00599 | Lowndes County Board of Health | Valdosta, GA | 16,367
H76HA00100 | Ware County Health Department | Waycross, GA | 18,196
H76HA00642 | Waikiki Health Center | Honolulu, HI | 17,061
H76HA26213 | Genesis Health System | Davenport, IA | 11,992
H76HA00209 | University of Iowa | Iowa City, IA | 15,285
H76HA00188 | Siouxland Community Health Center | Sioux City, IA | 0
H76HA00141 | Primary Health Care, Inc | Urbandale, IA | 15,521
H76HA00205 | Full Circle Health, Inc | Boise, ID | 15,293
H76HA24732 | Idaho State University | Pocatello, ID | 9,421
H76HA00113 | Heartland Alliance Health | Chicago, IL | 12,874
H76HA00550 | Access Community Health Network | Chicago, IL | 10,035
H76HA00107 | Hektoen Institute for Medical Research | Chicago, IL | 19,995
H76HA00757 | Near North Health Service Corporation | Chicago, IL | 6,996
H76HA00685 | Christian Community Health Center | Chicago, IL | 8,199
H76HA00519 | University of Illinois at Peoria | Chicago, IL | 15,218
H76HA00184 | Howard Brown Health Center | Chicago, IL | 19,995
H76HA00699 | Lawndale Christian Health Center | Chicago, IL | 8,249
H76HA00183 | Erie Family Health Center, Inc | Chicago, IL | 10,530
H76HA00686 | University of Illinois at Chicago | Chicago, IL | 13,124
H76HA45495 | Greater Family Health | Elgin, IL | 5,996
H76HA00109 | Crusaders Central Clinic Association | Rockford, IL | 11,865
H76HA00579 | Southern Illinois Healthcare Foundation | Sauget, IL | 10,269
H76HA31749 | Community Healthnet, Inc | Gary, IN | 7,114
H76HA45371 | The Damien Center, Inc | Indianapolis, IN | 13,259
H76HA49237 | AIDS Ministries AIDS Assist of Indiana, Inc | South Bend, IN | 5,000
H76HA00142 | UKSM-W Medical Practice Assoc. | Wichita, KS | 17,393
H76HA49240 | Matthew 25 AIDS Services, Inc | Henderson, KY | 5,000
H76HA00708 | Matthew 25 AIDS Services, Inc | Henderson, KY | 14,426
H76HA00719 | University of Kentucky Research Foundation | Lexington, KY | 16,876
H76HA00536 | University of Louisville Research Foundation | Louisville, KY | 19,285
H76HA00208 | Livwell Community Health Services, Inc | Paducah, KY | 12,624
H76HA00817 | Capitol City Family Health Center, Inc | Baton Rouge, LA | 9,090
H76HA26765 | Our Lady of The Lake Hospital, Inc | Baton Rouge, LA | 12,363
H76HA49241 | Start Corp | Houma, LA | 5,000
H76HA46005 | Acadiana Cares, Inc | Lafayette, LA | 5,000
H76HA26854 | Southwest Louisiana AIDS Council | Lake Charles, LA | 13,493
H76HA26800 | University Medical Center Management Corporation | New Orleans, LA | 13,560
H76HA31750 | New Orleans AIDS Task Force | New Orleans, LA | 6,512
H76HA12908 | NO/AIDS Task Force | New Orleans, LA | 8,289
H76HA00721 | Tulane University Health Sciences Center | New Orleans, LA | 14,185
H76HA00679 | Louisiana State University HSC | Shreveport, LA | 14,480
H76HA00696 | Greater Ouachita Coalition Providing AIDS Resources | West Monroe, LA | 12,606
H76HA00015 | Fenway Community Health Center, Inc | Boston, MA | 12,245
H76HA00020 | East Boston Neighborhood Health Center | Boston, MA | 7,245
H76HA00707 | Boston Health Care for The Homeless, Inc | Boston, MA | 9,100
H76HA00755 | Brockton Neighborhood Health Center | Brockton, MA | 6,812
H76HA00520 | Cambridge Health Alliance | Cambridge, MA | 9,391
H76HA00016 | Harbor Health Services, Inc | Dorchester, MA | 7,162
H76HA00201 | Holyoke Health Center, Inc | Holyoke, MA | 17,855
H76HA00764 | Cape Cod Hospital | Hyannis, MA | 8,808
H76HA00008 | Greater Lawrence Family Health Center, Inc | Lawrence, MA | 8,776
H76HA00768 | Lynn Community Health, Inc | Lynn, MA | 6,808
H76HA00013 | Greater New Bedford Community Health Center | New Bedford, MA | 8,539
H76HA00629 | Beth Israel Deaconess Hospital-Plymouth, Inc | Plymouth, MA | 6,217
H76HA00012 | Dimock Community Health Center, Inc | Roxbury, MA | 6,303
H76HA00019 | Family Health Center of Worcester, Inc | Worcester, MA | 9,082
H76HA00689 | Univ. of Mass. Medical School | Worcester, MA | 11,626
H76HA00080 | Chase Brexton Health Services | Baltimore, MD | 14,251
H76HA00609 | Total Health Care, Inc | Baltimore, MD | 8,752
H76HA28436 | The Johns Hopkins University | Baltimore, MD | 9,313
H76HA45496 | Daydream Sunshine Initiative Corporation | Bowie, MD | 6,247
H76HA00702 | Medstar Research Institute | Hyattsville, MD | 11,575
H76HA24741 | MaineGeneral Medical Center | Augusta, ME | 9,149
H76HA00729 | Regional Medical Center at Lubec | Lubec, ME | 8,826
H76HA30726 | Portland Community Health Center | Portland, ME | 9,408
H76HA00182 | The Regents of The University of Michigan | Ann Arbor, MI | 12,947
H76HA00117 | Detroit Community Health Connection | Detroit, MI | 6,913
H76HA00105 | Wayne State University | Detroit, MI | 14,459
H76HA00110 | Trinity Health, Michigan dba Mercy Health Saint Mary's | Grand Rapids, MI | 17,177
H76HA49239 | County of Ingham | Lansing, MI | 5,000
H76HA33060 | Hennepin Healthcare System, Inc | Minneapolis, MN | 13,552
H76HA00140 | Kansas City Care Clinic | Kansas City, MO | 14,340
H76HA07849 | Washington University | Saint Louis, MO | 15,205
H76HA00138 | AIDS Project of The Ozarks | Springfield, MO | 15,716
H76HA00527 | Coastal Family Health Center, Inc | Biloxi, MS | 14,292
H76HA00804 | G.A. Carmichael Family Health Care Clinic | Canton, MS | 8,363
H76HA25701 | Aaron E. Henry Community Health Services Center, Inc | Clarksdale, MS | 7,390
H76HA12910 | Delta Regional Medical Center | Greenville, MS | 10,459
H76HA00665 | Southeast Mississippi RHI, Inc | Hattiesburg, MS | 17,716
H76HA00712 | University of Mississippi Medical Center | Jackson, MS | 19,995
H76HA00145 | Yellowstone City & County Health Department D/B/A Riverstone Health | Billings, MT | 10,200
H76HA00798 | Missoula City/County Health Department/Partnership Health Center | Missoula, MT | 9,725
H76HA00102 | Western NC Community Health Services | Asheville, NC | 18,097
H76HA08949 | University of North Carolina At Chapel Hill | Chapel Hill, NC | 19,995
H76HA45494 | CW Williams Community Health Center, Inc | Charlotte, NC | 6,971
H76HA00093 | Lincoln Community Health Center, Inc | Durham, NC | 15,405
H76HA31752 | East Carolina University | Greenville, NC | 7,198
H76HA07485 | East Carolina University | Greenville, NC | 12,797
H76HA26853 | Warren-Vance Community Health Center, Inc | Henderson, NC | 10,791
H76HA00793 | Catawba Valley Medical Center | Hickory, NC | 12,701
H76HA00547 | Tri-County Community Health | Newton Grove, NC | 14,569
H76HA00816 | Robeson Health Care Corporation | Pembroke, NC | 10,786
H76HA01720 | Wake County Department of Health | Raleigh, NC | 19,995
H76HA00682 | Carolina Family Health Centers, Inc | Wilson, NC | 15,209
H76HA01702 | Wake Forest University Health Sciences | Winston Salem, NC | 19,995
H76HA45377 | Novant Health, Inc | Winston Salem, NC | 19,521
H76HA00586 | Chadron Community Hospital | Chadron, NE | 6,978
H76HA00529 | Board of Regents/University of Nebraska Medical Center | Omaha, NE | 15,735
H76HA31654 | Mary Hitchcock Memorial Hospital | Lebanon, NH | 12,996
H76HA00783 | Visiting Nurse Association of Central Jersey Community Health Center, Inc | Asbury Park, NJ | 8,739
H76HA01727 | The Cooper Health System | Cherry Hill, NJ | 13,806
H76HA24737 | Zufall Health Center, Inc | Dover, NJ | 7,888
H76HA26551 | Carepoint Health Foundation, Inc | Hoboken, NJ | 11,781
H76HA49855 | Rutgers, The State University of New Jersey | Newark, NJ | 4,518
H76HA00054 | Newark Community Health Centers, Inc | Newark, NJ | 8,535
H76HA00064 | St. Joseph's Hospital & Medical Center | Paterson, NJ | 13,340
H76HA49549 | Rutgers, The State University of New Jersey | Piscataway, NJ | 9,282
H76HA00613 | Neighborhood Health Services Corporation | Plainfield, NJ | 7,817
H76HA49246 | Henry J. Austin Health Center | Trenton, NJ | 7,875
H76HA00130 | University of New Mexico | Albuquerque, NM | 17,038
H76HA00612 | Southwest C.A.R.E. Center | Santa Fe, NM | 16,139
H76HA00166 | University Medical Center of Southern Nevada | Las Vegas, NV | 13,016
H76HA00511 | Northern Nevada H.O.P.E.S. | Reno, NV | 15,441
H76HA00041 | The Research Foundation of State University of New York | Albany, NY | 13,678
H76HA00060 | Albany Medical College | Albany, NY | 18,441
H76HA00032 | Whitney M. Young, Jr. Community Health Center | Albany, NY | 11,810
H76HA00056 | Joseph P. Addabbo Family Health Center | Arverne, NY | 8,879
H76HA29429 | La Casa De Salud, Inc | Bronx, NY | 7,699
H76HA00746 | Promesa, Inc | Bronx, NY | 5,358
H76HA00045 | Montefiore Medical Center | Bronx, NY | 15,124
H76HA00061 | Morris Heights Health Center | Bronx, NY | 9,300
H76HA00521 | Bronx Community Health Network, Inc | Bronx, NY | 14,052
H76HA00058 | BronxCare Health System | Bronx, NY | 13,652
H76HA00172 | The Brooklyn Hospital Center | Brooklyn, NY | 13,128
H76HA31533 | New York City Health and Hospitals Corporation | Brooklyn, NY | 11,296
H76HA30724 | Sunset Park Health Council, Inc | Brooklyn, NY | 9,670
H76HA00173 | Brooklyn Plaza Medical Center, Inc | Brooklyn, NY | 7,710
H76HA45372 | EHS, Inc | Buffalo, NY | 14,296
H76HA00066 | Elmhurst Hospital Center/NYC Health & Hospital Corp | Elmhurst, NY | 17,754
H76HA00496 | St Luke's-Roosevelt Hospital Center | New York, NY | 12,041
H76HA00024 | William F. Ryan Community Health Center, Inc | New York, NY | 12,871
H76HA00049 | Community Healthcare Network | New York, NY | 14,381
H76HA00043 | New York University School of Medicine | New York, NY | 11,673
H76HA00034 | New York City Health & Hospitals Corp | New York, NY | 9,752
H76HA21502 | The Institute For Family Health | New York, NY | 10,636
H76HA00759 | Asian Pacific Islander Coalition On HIV/AIDS | New York, NY | 14,409
H76HA19279 | Mt. Sinai Hospital | New York, NY | 13,190
H76HA00636 | Community Health Project, Inc | New York, NY | 19,995
H76HA00645 | Project Renewal, Inc | New York, NY | 5,000
H76HA00028 | Open Door Family Medical Center, Inc | Ossining, NY | 6,973
H76HA00029 | Hudson River Health Care | Peekskill, NY | 10,145
H76HA31534 | Hudson River Healthcare, Inc | Peekskill, NY | 3,565
H76HA00738 | Hudson Headwaters Health Network | Queensbury, NY | 8,094
H76HA02462 | Trillium Health, Inc, dba AIDS Care & Pleasant Street Apothecary | Rochester, NY | 15,340
H76HA00779 | St. Johns Riverside Hospital | Yonkers, NY | 9,264
H76HA01717 | Ursuline Center | Canfield, OH | 12,550
H76HA00111 | Cincinnati Health Network, Inc | Cincinnati, OH | 18,457
H76HA45497 | Neighborhood Health Care, Inc | Cleveland, OH | 5,000
H76HA00608 | University Hospitals of Cleveland | Cleveland, OH | 12,832
H76HA31535 | Equitas Health, Inc | Columbus, OH | 4,318
H76HA00531 | Equitas Health, Inc | Columbus, OH | 10,076
H76HA24736 | Research Institute At Nationwide Children's Hospital | Columbus, OH | 11,691
H76HA00732 | University of Toledo Health Science Campus | Toledo, OH | 16,852
H76HA00185 | University of Oklahoma Health Sciences Center | Oklahoma City, OK | 19,995
H76HA00187 | Oklahoma State University | Tulsa, OK | 19,026
H76HA00197 | Multnomah County Health Department | Portland, OR | 12,584
H76HA00078 | Lehigh Valley Hospital, Inc | Allentown, PA | 0
H76HA26804 | St Luke's Hospital | Bethlehem, PA | 11,328
H76HA48995 | Pennsylvania Western University | California, PA | 10,419
H76HA00668 | Keystone Rural Health Center | Chambersburg, PA | 8,601
H76HA00565 | AIDS Care Group | Chester, PA | 15,261
H76HA46012 | Geisinger Clinic | Danville, PA | 5,000
H76HA00715 | Community Health Net | Erie, PA | 7,056
H76HA00617 | Pinnacle Health Medical Services | Harrisburg, PA | 14,913
H76HA31655 | Pinnacle Health System | Harrisburg, PA | 8,360
H76HA00627 | The Pennsylvania State University | Hershey, PA | 14,515
H76HA00556 | Lancaster General Hospital | Lancaster, PA | 14,065
H76HA00070 | Greater Philadelphia Health Action, Inc | Philadelphia, PA | 8,511
H76HA00725 | Esperanza Health Center | Philadelphia, PA | 7,986
H76HA31531 | Drexel University | Philadelphia, PA | 14,133
H76HA00077 | Philadelphia Public Health Department | Philadelphia, PA | 14,537
H76HA00553 | Philadelphia Fight | Philadelphia, PA | 13,946
H76HA00631 | Albert Einstein Medical Center | Philadelphia, PA | 13,058
H76HA25775 | UPMC Presbyterian Shadyside | Pittsburgh, PA | 17,602
H76HA00808 | Allegheny-Singer Research Institute | Pittsburgh, PA | 15,484
H76HA12732 | The Reading Hospital and Medical Center | Reading, PA | 11,064
H76HA28747 | The Wright Center Medical Group, P.C. | Scranton, PA | 12,651
H76HA00072 | Family First Health Corporation | York, PA | 13,260
H76HA00533 | Centro De Salud Familiar (PALMIERI) | Arroyo, PR | 8,276
H76HA00063 | Municipality of Bayamon | Bayamon, PR | 9,605
H76HA00067 | Neomed Center, Inc | Gurabo, PR | 9,668
H76HA45489 | Healthcare Integrated Program Services, Inc | Humacao, PR | 10,660
H76HA00052 | Centro De Salud De Lares, Inc | Lares, PR | 11,300
H76HA00676 | Concilio De Salud Integral De Loiza, Inc | Loiza, PR | 5,703
H76HA00068 | Migrant Health Center, Western Region, Inc | Mayaguez, PR | 10,436
H76HA00037 | Med Centro, Inc | Ponce, PR | 10,309
H76HA46014 | Med Centro, Inc | Ponce, PR | 5,000
H76HA26894 | Centro Ararat, Inc | Ponce, PR | 18,746
H76HA00047 | Puerto Rico Community Network for Clinical Services, Research and Health Advancement, Inc | San Juan, PR | 13,016
H76HA00018 | The Miriam Hospital | Providence, RI | 16,896
H76HA00704 | Thundermist Health Center | Woonsocket, RI | 9,870
H76HA31742 | Roper St. Francis Healthcare | Charleston, SC | 16,185
H76HA24740 | Eau Claire Cooperative Health Center | Columbia, SC | 13,571
H76HA00584 | Low Country Health Care System, Inc | Fairfax, SC | 6,789
H76HA31753 | Low Country Health Care System, Inc | Fairfax, SC | 2,028
H76HA00789 | HopeHealth, Inc | Florence, SC | 19,015
H76HA00542 | New Horizon Family Health Services, Inc | Greenville, SC | 19,703
H76HA00713 | CareSouth Carolina, Inc | Hartsville, SC | 10,000
H76HA00813 | Sandhills Medical Foundation, Inc | Jefferson, SC | 10,186
H76HA24735 | Little River Medical Center, Inc | Little River, SC | 11,709
H76HA00206 | Beaufort-Jasper Comprehensive Health Services, Inc | Ridgeland, SC | 12,194
H76HA00724 | Affinity Health Center | Rock Hill, SC | 12,854
H76HA00818 | Spartanburg Regional Health Services District, Inc | Spartanburg, SC | 15,955
H76HA00752 | City of Sioux Falls Health Department | Sioux Falls, SD | 7,850
H76HA00814 | Chattanooga C.A.R.E.S. | Chattanooga, TN | 16,934
H76HA46011 | East Tennessee State University | Johnson City, TN | 5,000
H76HA00568 | Regional One Health | Memphis, TN | 14,729
H76HA30761 | Vanderbilt University Medical Center | Nashville, TN | 16,330
H76HA01706 | Meharry Medical College | Nashville, TN | 10,245
H76HA00127 | Austin/Travis City Health and Human Services Department | Austin, TX | 18,632
H76HA49238 | Coastal Bend Wellness Foundation, Inc | Corpus Christi, TX | 5,000
H76HA00119 | Dallas County Hospital District | Dallas, TX | 19,995
H76HA01710 | AIDS Arms, Inc | Dallas, TX | 19,995
H76HA00122 | Centro De Salud Familiar La Fe | El Paso, TX | 18,121
H76HA00123 | Tarrant County Health Department | Fort Worth, TX | 6,304
H76HA00131 | Valley AIDS Council | Harlingen, TX | 19,995
H76HA00684 | Houston Regional HIV/AIDS Resource Group, Inc | Houston, TX | 19,995
H76HA00128 | Harris County Hospital District | Houston, TX | 19,995
H76HA31754 | City of Laredo | Laredo, TX | 11,100
H76HA01705 | Special Health Resources for Texas, Inc | Longview, TX | 19,995
H76HA00124 | El Centro Del Barrio, Inc | San Antonio, TX | 14,746
H76HA00470 | University of Utah | Salt Lake Cty, UT | 19,995
H76HA04385 | University of Virginia | Charlottesvle, VA | 15,463
H76HA00583 | Mary Washington Hosp/Medicorp Health System | Fredericksbrg, VA | 8,629
H76HA31743 | Community Access Network, Inc | Lynchburg, VA | 11,440
H76HA24728 | Eastern Virginia Medical School | Norfolk, VA | 15,166
H76HA00555 | Virginia Commonwealth University | Richmond, VA | 19,870
H76HA07357 | Carilion Medical Center | Roanoke, VA | 11,936
H76HA00177 | Inova Health Care Services | Springfield, VA | 15,470
H76HA17151 | Frederiksted Health Care, Inc | St Croix, VI | 7,508
H76HA00203 | The University of Vermont Medical Center, Inc | Burlington, VT | 12,730
H76HA00518 | Country Doctor Community Clinic | Seattle, WA | 9,275
H76HA00198 | Harbor View Medical Center | Seattle, WA | 12,982
H76HA00204 | University of Wisconsin-Madison | Madison, WI | 16,415
H76HA00115 | Milwaukee Health Services, Inc | Milwaukee, WI | 10,481
H76HA00621 | AIDS Resource Center of Wisconsin | Milwaukee, WI | 19,995
H76HA00773 | Sixteenth Street Community Health Centers, Inc | Milwaukee, WI | 11,140
H76HA00762 | CAMC Health Ed & Research Institute | Charleston, WV | 12,463
H76HA01719 | West Virginia University | Morgantown, WV | 10,543
H76HA15322 | Wyoming Department of Health | Cheyenne, WY | 9,403

Justification: Since FY 2018, HRSA determines funding levels for the RWHAP Part C EIS program using a methodology based on several objective factors (e.g., number of clients served) to generate a ceiling amount for each geographic service area for which applicants compete. In FY 2023, relinquishments, award reductions, and closeouts occurred among program recipients. As a result, HRSA is expediting the allocation of supplemental funds to RWHAP Part C EIS recipients.

Carole Johnson,
Administrator.

[FR Doc. 2024-02288 Filed 2-5-24; 8:45 am]

BILLING CODE 4165-15-P